DEPARTMENT OF DEFENSE

Department of the Air Force

Office of the Secretary; Federal Advisory Committee for Air Force Academy Academic and Institutional Programs

AGENCY: Department of the Air Force, DoD.

ACTION: Notice of meeting.

SUMMARY: Pursuant to Public Law 92-463, notice is hereby given of forthcoming meeting of the Federal Advisory Committee for Air Force Academy Academic and Institutional Programs. The purpose of this meeting is to consider morale and discipline, the curriculum, instruction, physical equipment, fiscal affairs, academic methods, and other matters relating to the Academy. Certain sessions of these meetings will be closed to the public.

DATES: June 25, 2002.

ADDRESSES: Washington DC, Capital Building.

FOR FURTHER INFORMATION CONTACT: Major Steve Sandridge or Ms. Sue Christensen, Institutional Events, HQ USAFA/XPO, 2304 Cadet Drive, Suite 300, USAF Academy CO 80840-5002, (719) 333-3832.

Pamela D. Fitzgerald,
Air Force Federal Register Liaison Officer.

[FR Doc. 02-14540 Filed 6-10-02; 8:45 am]

BILLING CODE 5001-05-P